DEPARTMENT OF THE INTERIOR

National Park Service

Notice of Proposed National Natural Landmark Designation for Garden Canyon at Fort Huachuca, AZ

AGENCY: National Park Service, Interior.

ACTION: Notice of proposed National Natural Landmark designation.

SUMMARY: The National Park Service has evaluated and determined that Garden Canyon, located within Fort Huachuca, Cochise County, Arizona, meets the criteria for national significance and proposes to designate it a National Natural Landmark. The public is invited to comment on this proposed action.

DATES: Written comments will be accepted until June 9, 2003.

ADDRESSES: Written comments should be sent to Margi Brooks, National Natural Landmarks Program Coordinator, National Park Service, 1415 N. Sixth Ave., Tucson, Arizona, 85705, or to her Internet address: Margi_Brooks@nps.gov.

FOR FURTHER INFORMATION CONTACT: Margi Brooks at 520-670-6501 extension 232.

SUPPLEMENTARY INFORMATION: Garden Canyon represents the best example of Madrean montane evergreen woodland, Madrean montane conifer forest, and semi-desert grassland in the Mohave-Sonoran desert region. This unique assemblage of biotic communities harbors many subtropical species at the northern edges of their range. The relative absence of livestock grazing, coupled with a relatively natural fire regime, has contributed to the retention of ecosystems in Garden Canyon that are representative of pre-settlement conditions. Information on the National Natural Landmarks Program can be found in 36 CFR Part 62 or on the Internet at http://www1.nature.nps.gov/nnl/index.htm.

Dated: February 27, 2003.
Margaret A. Brooks,
National Natural Landmarks Program Manager.

[FR Doc. 03-8503 Filed 4-7-03; 8:45 am]

BILLING CODE 4310-70-P